DEPARTMENT OF ENERGY

Federal Energy Regulatory Commission

18 CFR Part 260

[Docket No. RM07-9-003]

Revisions to Forms, Statements, and Reporting Requirements for Natural Gas Pipelines

September 24, 2010.

AGENCY: Federal Energy Regulatory Commission.

ACTION: Notice of Proposed Rulemaking; notice providing for reply comments.

SUMMARY: On June 17, 2010, the Commission issued a Notice of Proposed Rulemaking proposing to revise certain financial reporting forms required to be filed by natural gas companies (FERC Form Nos. 2, 2-A, and 3-Q). The Commission is providing interested parties an opportunity to file reply comments on the Notice of Proposed Rulemaking.

DATES: Reply comments are due October 25, 2010.

ADDRESSES: You may submit reply comments, identified by Docket No. RM07-9-003, by any of the following methods:

• Agency Web Site: http://www.ferc.gov. Documents created electronically using word processing software should be filed in native applications or print-to-PDF format and not in a scanned format.

• Mail/Hand Delivery: Commenters unable to file comments electronically must mail or hand deliver an original and 14 copies of their comments to: Federal Energy Regulatory Commission, Office of the Secretary, 888 First Street, NE., Washington, DC 20426.

FOR FURTHER INFORMATION CONTACT:

Brian Holmes (Technical Information), Office of Enforcement, Federal Energy Regulatory Commission, 888 First Street, NE., Washington, DC 20426, Telephone: (202) 502-6008, E-mail: brian.holmes@ferc.gov.

Robert Sheldon (Technical Information), Office of Energy Market Regulation, Federal Energy Regulatory Commission, 888 First Street, NE., Washington, DC 20426, Telephone: (202) 502-8672, E-mail: robert.sheldon@ferc.gov.

Gary D. Cohen (Legal Information), Office of the General Counsel, Federal Energy Regulatory Commission, 888 First Street, NE., Washington, DC 20426, Telephone: (202) 502-8321, E-mail: gary.cohen@ferc.gov.

Notice Regarding Reply Comments

On June 17, 2010, the Commission issued a Notice of Proposed Rulemaking (NOPR) (75 FR 35700) in the above-referenced proceeding ¹ proposing to revise certain financial reporting forms required by natural gas companies (FERC Form Nos. 2, 2-A and 3-Q). Initial comments on this NOPR were due on August 23, 2010. The Commission is providing interested parties with an opportunity to file reply comments on the NOPR.

¹ Revisions to Forms and Statements, and Reporting Requirements for Natural Gas Pipelines, 131 FERC ¶ 61,245 (2010).

By this notice, reply comments should be filed on or before October 25, 2010.

Kimberly D. Bose,
Secretary.

[FR Doc. 2010-24943 Filed 10-4-10; 8:45 am]

BILLING CODE 6717-01-P